DEPARTMENT OF LABOR

Employment and Training Administration

[TA-W-53,955]

American Steel and Aluminum Corp., Middletown, PA; Notice of Termination of Investigation

Pursuant to section 221 of the Trade Act of 1974, as amended, an investigation was initiated on January 7, 2004, in response to a worker petition filed by a company official on behalf of workers at American Steel & Aluminum Corporation, Middletown, Pennsylvania.

The petitioner has requested that the petition be withdrawn. Consequently, the investigation has been terminated.

Signed at Washington, DC, this 12th day of February, 2004.
Elliott S. Kushner,
Certifying Officer, Division of Trade Adjustment Assistance.

[FR Doc. 04-4974 Filed 3-4-04; 8:45 am]

BILLING CODE 4510-30-P